DEPARTMENT OF THE INTERIOR

Bureau of Land Management

[ID-933-4310-ET; GPO-03-0003; IDI-34424]

Notice of Proposed Withdrawal and Opportunity for a Public Meeting; Idaho

AGENCY: Bureau of Land Management, Interior.

ACTION: Notice.

SUMMARY: The United States Forest Service proposes to withdraw approximately 7,131.56 acres of National Forest System lands to protect and preserve the Yellowstone Cutthroat trout and the areas historic mining features. This notice segregates the land for up to 2 years from location and entry under the United States mining laws. The lands have been and will remain open to such forms of disposition as may by law be made of National Forest System lands and mineral leasing. The proposed withdrawal would allow recreational gold panning and limited suction dredging in planned development areas.

DATES: Comments on the new proposed withdrawal must be received by August 21, 2003.

ADDRESSES: Comments should be sent to the State Director, Bureau of Land Management, 1387 South Vinnell Way, Boise, Idaho 83709.

FOR FURTHER INFORMATION CONTACT: Jackie Simmons, BLM, Idaho State Office, 1387 S. Vinnell Way, Boise, Idaho 83709, 208-373-3867.

SUPPLEMENTARY INFORMATION: The Forest Service proposes to withdraw the following described National Forest System Lands from location and entry under the United States mining laws, subject to valid existing rights:

Caribou-Targhee National Forest

Boise Meridian

T. 3 S., R. 44 E.,

Sec. 14, SW¼NW¼, W½SW¼, SE¼SW¼, and SE¼SE¼;

Sec. 15, NE¼, NE¼NW¼, and S½NW¼;

Sec. 16, S½NE¼, N½SW¼, SW¼SW¼, and N½SE¼;

Sec. 17, NE¼SE¼ and S½SE¼;

Sec. 19, SE¼NE¼ and SE¼;

Sec. 20, E½NE¼NE¼, W½NW¼NE¼, and NW¼;

Sec. 23, N½NE¼ and NE¼NW¼;

Sec. 24, NW¼NE¼, NW¼, and W½SW¼;

Sec. 25, W½W½;

Sec. 29, S½;

Sec. 30, E½;

Sec. 31, NE¼NE¼;

Sec. 32, All;

Sec. 33, W½;

Sec. 35, SE¼;

Sec. 36, NW¼ and W½SW¼.

T. 4 S., R. 44 E., Boise Meridian

Sec. 2, lots 1 thru 4, inclusive, and S½N½;

Sec. 4, all;

Sec. 5, all;

Sec. 8, all;

Sec. 9, all;

Sec. 10, W½.

The area described contains approximately 7,131.56 acres in Bonneville County, Idaho.

The following lands are patented mining and mill site claims lying within the exterior boundaries of the above described lands and that are excepted from the proposed withdrawal, but will become subject to the withdrawal if and when acquired by the Federal Government:

Boise Meridian

T. 4 S., R. 44 E.,

Sec. 4, Mineral patent 1097900 and those portions of mineral patents 8062, 8519, and 38675 that lie within section 4;

Sec. 5, That portion of mineral patent 38675 that lies within section 5;

Sec. 8, Mineral patent 38674 and those portions of mineral patents 38223, 38527, and 38675 that lie within section 8;

Sec. 9, Those portions of mineral patents 8062, 8519, 38527, 38675, 1101444 that lie within section 9;

Sec. 10, That portion of mineral patent 1101444 that lies within section 10.

The area of the patented lands described above contains approximately 274.68 acres in Bonneville County, Idaho.

All persons who wish to submit comments, suggestions, or objections in connection with the proposed withdrawal may present their views in writing to the Idaho State Director, Bureau of Land Management, at the address stated above by August 21, 2003.

Notice is hereby given that an opportunity for a public meeting is afforded in connection with the proposed withdrawal. All interested persons who desire a public meeting for the purpose of being heard on the proposed withdrawal must submit a written request to the Idaho State Director within 90 days from the date of publication of this notice. Upon determination by the authorized officer that public meeting will be held, a notice of the time and place will be published in the Federal Register and newspaper having general circulation in the vicinity of the land at least 30 days before the scheduled date of the meeting.

The application will be processed in accordance with the regulations set forth in 43 CFR part 2300.

For a period of 2 years from May 23, 2003, in accordance with 43 CFR 2310.2(a), the land will be segregated from location and entry under the United States mining laws, unless the application is denied or canceled or the withdrawal is approved prior to that date.

William H. Lee,
Acting Branch Chief for Lands and Minerals.

[FR Doc. 03-12971 Filed 5-22-03; 8:45 am]

BILLING CODE 4310-GG-P